ENVIRONMENTAL PROTECTION AGENCY

40 CFR Part 180

[OPP-30115C; FRL-6743-4]

RIN 2070-AD23

Pesticide Tolerance Processing Fees; Reopening of Comment Period

AGENCY: Environmental Protection Agency (EPA).

ACTION: Proposed Rule; Reopening of Comment Period.

SUMMARY: On July 24, 2000 EPA partially reopened the comment period on its proposed rule on tolerance processing fees to provide for public comment on additional data and information pertaining to fees for pesticide inert ingredients. EPA allotted 30 days for the submission of comments and due to the pressing nature of the proposed regulation, stated that it would not extend this 30-day comment period further. However, due to an overwhelming request from stakeholders for additional time, the Agency has decided to reopen and extend the comment period for an additional 15-day period.

DATES: Written comments, identified by the docket number OPP-30115C, must be received on or before September 15, 2000.

ADDRESSES: Comments may be submitted by mail, electronically, or in person. Please follow the detailed instructions for each method as provided in Unit I of the SUPPLEMENTARY INFORMATION section. To ensure proper receipt by EPA, it is essential that you identify docket control number OPP-30115C in the subject line on the first page of your response.

FOR FURTHER INFORMATION CONTACT: Carol Peterson, Office of Pesticide Programs (7506C), U.S. Environmental Protection Agency, Ariel Rios Bldg., 1200 Pennsylvania Ave., NW., Washington, DC 20460; telephone number: (703) 305-6598; e-mail address: peterson.carol@epa.gov.

SUPPLEMENTARY INFORMATION:

I. General Information

A. Does this Document Apply to Me?

This document may directly affect any person or company who might petition the Agency for new tolerances, hold a pesticide registration with existing tolerances, or any person or company who is interested in obtaining or retaining a tolerance in the absence of a registration. This group can include pesticide manufacturers or formulators, companies that manufacture inert ingredients, importers of food, grower groups, or any person who seeks a tolerance. Federal, State, local, territorial, or tribal government agencies that petition for, or hold, emergency exemption tolerances are exempt from this rule. The vast majority of potentially affected categories and entities may include, but are not limited to:

Category | NAICS | Examples of Potentially Affected Entities
Chemical Industry | 325320 | Pesticide chemical manufacturers, formulators
| 115112 | Chemical manufacturers of inert ingredients

This listing is not intended to be exhaustive, but rather provides a guide for readers regarding entities likely to be regulated by this action. Other types of entities not listed above also could potentially be affected by this notice. The six-digit North American Industrial Classification System (NAICS) codes have been provided to assist you and others in determining whether or not this notice applies to certain entities. To determine whether you or your business is regulated by this action, you should carefully examine the applicability provisions in this document. If you have any questions regarding the applicability of this action to a particular entity, consult the person listed in the FOR FURTHER INFORMATION CONTACT section.

B. How Can I Get Additional Information or Copies of this Document or Other Documents?

1. Electronically. You may obtain electronic copies of this document and various support documents from the EPA Internet Home Page at http://www.epa.gov/. On the Home Page select “Laws and Regulations,” “Regulations and Proposed Rules,” and then look up the entry for this document under the “Federal Register -- Environmental Documents.” You can also go directly to the “Federal Register” listings at http://www.epa.gov/homepage/fedrgstr/.

2. In person. The official record for this notice, including the public version, has been established under docket control number OPP-30115C (including comments and data submitted electronically as described below). A public version of this record, including printed, paper versions of any electronic comments, which does not include any information claimed as Confidential Business Information (CBI), is available for inspection in Rm. 119, Crystal Mall #2, 1921 Jefferson Davis Highway, Arlington, VA, from 8:30 a.m. to 4 p.m., Monday through Friday, excluding legal holidays. The Public Information and Records Integrity Branch telephone number is 703-305-5805.

C. How and to Whom Do I Submit Comments?

As described in Unit I.C of the July 24, 2000 Federal Register document (65 FR 45569) (FRL-6594-2), you may submit comments through the mail, in person, or electronically. Please follow the instructions that are provided in the July 24, 2000 notice and be sure to identify the appropriate docket number (i.e., “OPP-30115C”) in the subject line on the first page of your response.

D. How Should I Handle Confidential Business Information that I Want to Submit to the Agency?

You may claim information that you submit in response to this document as CBI by marking any part or all of that information as CBI. Information so marked will not be disclosed except in accordance with procedures set forth in 40 CFR part 2. A copy of the comment that does not contain CBI must be submitted for inclusion in the public record. Information not marked confidential will be included in the public docket by EPA without prior notice. If you have any questions about CBI or the procedures for claiming CBI, please consult the person identified in the FOR FURTHER INFORMATION CONTACT section.

E. What Should I Consider as I Prepare My Comments for EPA?

We invite you to provide your views on the information presented, new approaches to be considered, the potential impacts of the information (including possible unintended consequences), and any data or information that you would like the Agency to consider during the development of the final action. You may find the following suggestions helpful for preparing your comments:

1. Explain your views as clearly as possible.

2. Describe any assumptions that you used.

3. Provide solid technical information and/or data to support your views.

4. If you estimate potential burden or costs, explain how you arrived at the estimate.

5. Tell us what you support, as well as what you disagree with.

6. Provide specific examples to illustrate your concerns.

7. Offer alternative ways to improve the rule or collection activity.

8. Make sure to submit your comments by the deadline in this notice.

9. At the beginning of your comments (e.g., as part of the ``Subject'' heading), be sure to properly identify the document you are commenting on. You can do this by providing the docket number assigned to the notice, along with the name, date, and Federal Register citation.

II. What Action is the Agency Taking?

The Agency issued a call for additional comments relating to new data and information tolerance processing fees for inert pesticide ingredients. The background and the contents of the document can be found in the Federal Register document published on July 24, 2000. The original proposed rule can be found in the Federal Register document published on June 9, 1999. The comment period for the proposed rule is being reopened for an additional 15 days. Comments must now be submitted to the Agency on or before September 15, 2000.

III. Do Any Regulatory Assessment Requirements Apply to this Action?

Yes. This action discusses and requests comments on additional data and/or information related to a proposed rule that was previously published in the Federal Register on June 9, 1999 (64 FR 31039) (FRL-6028-2). For information about the applicability of the regulatory assessment requirements to the proposed rule and this supplemental proposal, please refer to the discussion in Unit VII of that document.

List of Subjects in 40 CFR Part 180

Environmental protection, Administrative practice and procedure, Agricultural commodities, Pesticides and pests, Reporting and recordkeeping requirements.

Dated: August 23, 2000.
Susan B. Hazen,
Acting Director, Office of Pesticide Programs.

[FR Doc. 00-22388 Filed 8-30-00; 8:45 a.m.]

BILLING CODE 6560-50-S